DEPARTMENT OF AGRICULTURE

Submission for OMB Review; Comment Request

November 12, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding these information collections are best assured of having their full effect if received by December 17, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Bee and Honey Survey.

OMB Control Number: 0535-0153.

Summary of Collection: The National Agricultural Statistics Service (NASS) primary function is to prepare and issue State and national estimates of crop and livestock production, products, prices and disposition. General authority for these data collection activities is granted under U.S. Code Title 7, Section 2204. Domestic honeybees are critical to the pollination of U.S. crops, especially fruits, some nuts, vegetables and some specialty crops. Africanized bees, colony collapse disorder, parasites, diseases, and pesticides threaten the survival of bees. Programs are provided by federal, State and local governments to assist in the survival of bees and to encourage beekeepers to maintain bee colonies. NASS is also revising the title of this collection to Bee and Honey Survey.

Need and Use of the Information: Bee and honey data are collected only once a year. Collecting data less frequently would diminish the ability to track changing trends in the honey industry. The frequency of the report has evolved to meet the needs of customers and yet minimize the burden on the reporting public. The survey will provide data needed by the Department and other government agencies to administer programs and to set trade quotas and tariffs. Without the information agricultural industry would not be aware of changes at the State and national level.

NASS commodity statisticians stay in close contact with beekeepers and data users by attending numerous meetings and tradeshows around the country. NASS has obtained a great deal of input from data users as to what sort of published data they need and what sort of production data individual growers can provide relating to colony loss and colony health. It was determined that health data on bee colonies should be collected quarterly in order to be able to monitor trends in colony loss closely and to reduce possible errors in respondent memory recall.

Data for operations with fewer than five colonies was last published in 2018. Data for these smaller operations will be collected once every five years through the Census of Agriculture (OMB no. 0535-0226). Operations with five or more colonies will be contacted by NASS to collect colony loss data for the previous quarter and honey production data in January for the previous year.

Furthermore, data relating to the number and location of commercial apiaries is vital to fruit, vegetable, and many specialty crop farmers. An ample supply of honeybees is crucial to the pollination of these crops. Many of the larger apiaries are contracted to transport their hives to regions producing fruits, vegetables, and specialty crops at the appropriate season(s) to ensure proper pollination of these crops.

Description of Respondents: Farms.

Number of Respondents: 12,225.

Frequency of Responses: Reporting: Annually.

Total Burden Hours: 7,442.

Levi S. Harrell,
Departmental Information Collection Clearance Officer.

[FR Doc. 2020-25296 Filed 11-16-20; 8:45 am]

BILLING CODE 3410-20-P